FEDERAL RESERVE SYSTEM

Consumer Advisory Council

Solicitation of Nominations for Membership

AGENCY: Board of Governors of the Federal Reserve System.

ACTION: Notice.

SUMMARY: The Board is inviting the public to nominate qualified individuals for appointment to its Consumer Advisory Council, whose membership represents interests of consumers, communities, and the financial services industry. New members will be selected for three-year terms that will begin in January 2005. The Board expects to announce the selection of new members by year-end 2004.

DATES: Nominations must be received by August 27, 2004. Nominations not received by August 27, may not be considered.

ADDRESSES: Nominations must including a résumé for each nominee. Electronic nominations are preferred. The appropriate form can be accessed at: http://www.federalreserve.gov/forms/cacnominationform.cfm.

If electronic submission is not feasible, the nominations can be mailed (not sent by facsimile) to Terri Johnsen, Manager, Community Affairs, Division of Consumer and Community Affairs, Board of Governors of the Federal Reserve System, Washington, DC 20551.

FOR FURTHER INFORMATION CONTACT: Ann Bistay, Secretary of the Council, Division of Consumer and Community Affairs, (202) 452-6470, Board of Governors of the Federal Reserve System, Washington, DC 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 U.S.C. 1691(b)). Under the Rules of Organization and Procedure of the Consumer Advisory Council (12 CFR 267.3), members serve three-year terms that are staggered to provide the Council with continuity.

New members will be selected for terms beginning January 1, 2005, to replace members whose terms expire in December 2004; the Board expects to announce its appointment of new members by year-end. Nomination letters should include:

• A résumé;

• Information about past and present positions held by the nominee;

• A description of special knowledge, interests or experience related to community reinvestment, consumer protection regulations, consumer credit, or other consumer financial services;

• Full name, title, organization name, organization description for both the nominee and the nominator;

• Current address, telephone and fax numbers for both the nominee and the nominator; and

• Positions held in community organizations, and on councils and boards.

Individuals may nominate themselves.

The Board is interested in candidates who have familiarity with consumer financial services, community reinvestment, and consumer protection regulations, and who are willing to express their viewpoints. Candidates do not have to be experts on all levels of consumer financial services or community reinvestment, but they should possess some basic knowledge of the area. They must be able and willing to make the necessary time commitment to participate in conference calls, and prepare for and attend meetings three times a year (usually for two days, including committee meetings). The meetings are held at the Board's offices in Washington, DC. The Board pays travel expenses, lodging, and a nominal honorarium.

In making the appointments, the Board will seek to complement the background of continuing Council members in terms of affiliation and geographic representation, and to ensure the representation of women and minority groups. The Board may consider prior years' nominees and does not limit consideration to individuals nominated by the public when making its selection.

Council members whose terms end as of December 31, 2004, are:

Janie Barrera, President and Chief Executive Officer, ACCION Texas, San Antonio, Texas.

Kenneth P. Bordelon, Chief Executive Officer, E Federal Credit Union, Baton Rouge, Louisiana.

Robin Coffey, Senior Vice President, Harris Bank, Chicago, Illinois.

Thomas FitzGibbon, Senior Vice President, MB Financial Bank, N.A., Chicago, Illinois.

Larry Hawkins, President and Chief Executive Officer, Unity National Bank, Houston, Texas.

Ruhi Maker, Senior Attorney, Law Office of Rochester, Rochester, New York.

Patricia McCoy, Professor of Law, University of Connecticut School of Law, Hartford, Connecticut.

Debra S. Reyes, President, Neighborhood Lending Partners, Inc., Tampa, Florida.

Benson Roberts, Vice President for Policy, Local Initiatives Support Corporation, Washington, District of Columbia.

Agnes Bundy Scanlan, Senior Vice President, Regulatory Relations Executive, Bank of America, Boston, Massachusetts.

Hubert Van Tol, Co-Director, Fairness in Rural Lending, Sparta, Wisconsin.

Council members whose terms continue through 2005 and 2006 are:

Dennis L. Algiere, Senior Vice President, Compliance and Community Affairs, The Washington Trust Company, Westerly, Rhode Island.

Susan Bredehoft, Senior Vice President/Compliance Risk Management, Commerce Bank, N.A., Cherry Hill, New Jersey.

Sheila Canavan, Consumer Attorney, Law Office of Sheila Canavan, Moab, Utah.

Anne Diedrick, Senior Vice President, JPMorgan Chase Bank, New York, New York.

Dan Dixon, Group Senior Vice President, World Savings Bank, FSB, Washington, District of Columbia.

Hattie B. Dorsey, President and Chief Executive Officer, Atlanta Neighborhood Development Partnership, Atlanta, Georgia.

James Garner, Senior Vice President and General Counsel, North America Consumer Finance for Citigroup, Baltimore, Maryland.

R. Charles Gatson, Vice President/Chief Operating Officer, Swope Community Builders, Kansas City, Missouri.

James King, President and Chief Executive Officer, Community Redevelopment Group, Cincinnati, Ohio.

Elsie Meeks, Executive Director, First Nations Oweesta Corporation, Kyle, South Dakota.

Bruce B. Morgan, Chairman, President and Chief Executive Officer, Valley State Bank, Roeland Park, Kansas.

Mark Pinsky, President and Chief Executive Officer, National Community Capital Association, Philadelphia, Pennsylvania.

Benjamin Robinson, Senior Vice President, Chief Privacy Executive, Bank of America, Charlotte, North Carolina.

Mary Jane Seebach, Executive Vice President, Chief Compliance Officer, Countrywide Financial Corporation, Calabasas, California.

Paul J. Springman, Group Executive, Predictive Sciences, Equifax, Atlanta, Georgia.

Forrest F. Stanley, Senior Vice President and Deputy General Counsel, KeyBank National Association, Cleveland, Ohio.

Lori R. Swanson, Solicitor General, Office of the Minnesota Attorney General, St. Paul, Minnesota.

Diane Thompson, Supervising Attorney, Land of Lincoln Legal Assistance Foundation, Inc., East St. Louis, Illinois.

Clint Walker, General Counsel/Chief Administrative Officer, Juniper Bank, Wilmington, Delaware.

Board of Governors of the Federal Reserve System, June 16, 2004.
Jennifer J. Johnson,
Secretary of the Board.

[FR Doc. 04-14033 Filed 6-21-04; 8:45 am]

BILLING CODE 6210-01-P